DEPARTMENT OF COMMERCE

International Trade Administration

[A-570-056, A-552-821]

Certain Tool Chests and Cabinets From the People's Republic of China and the Socialist Republic of Vietnam: Antidumping Duty Orders

AGENCY: Enforcement and Compliance, International Trade Administration, Department of Commerce.

SUMMARY: Based on affirmative final determinations by the Department of Commerce (Commerce) and the International Trade Commission (ITC), Commerce is issuing antidumping duty orders on certain tool chests and cabinets (tool chests) from the People's Republic of China (China) and the Socialist Republic of Vietnam (Vietnam).

DATES: Applicable June 4, 2018.

FOR FURTHER INFORMATION CONTACT: Yang Jin Chun or Andre Gziryan at (202) 482-5760 or (202) 482-2201, respectively (China); Dmitry Vladimirov at (202) 482-0665 (Vietnam); AD/CVD Operations Office I, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on April 10, 2018, Commerce published its affirmative final determinations in the less-than-fair-value (LTFV) investigations of tool chests from China and Vietnam.¹ On May 24, 2018, the ITC notified Commerce of its final determination pursuant to section 735(b)(1)(A) of the Act that an industry in the United States is materially injured by reason of the LTFV imports of tool chests from China and Vietnam.²

¹ See Certain Tool Chests and Cabinets from the People's Republic of China: Final Affirmative Determination of Sales at Less Than Fair Value, 83 FR 15365 (April 10, 2018) (China Final) and Certain Tool Chests and Cabinets from the Socialist Republic of Vietnam: Final Affirmative Determination of Sales at Less Than Fair Value, 83 FR 15361 (April 10, 2018) (Vietnam Final).

² See Notification Letter from the ITC dated May 24, 2018 (ITC Letter).

Scope of the Orders

The product covered by these orders is tool chests. For a complete description for the scope of the orders, see Appendix I of this notice.

Antidumping Duty Orders

On May 24, 2018, in accordance with sections 735(b)(1)(A) and 735(d) of the Act, the ITC notified Commerce of its final determinations in these investigations, in which it found that an industry in the United States is materially injured by reason of imports of tool chests from China and Vietnam.³ Therefore, in accordance with section 735(c)(2) of the Act, Commerce is issuing these antidumping duty orders. Because the ITC determined that imports of tool chests from China and Vietnam are materially injuring a U.S. industry, unliquidated entries of such merchandise from China and Vietnam, entered or withdrawn from warehouse for consumption, are subject to the assessment of antidumping duties.

³ See ITC Letter.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of tool chests from China and Vietnam. Antidumping duties will be assessed on unliquidated entries of tool chests from China and Vietnam entered, or withdrawn from warehouse, for consumption on or after November 16, 2017, the date of publication of the Preliminary Determinations,⁴ but will not include entries occurring after the expiration of the provisional measures period and before publication of the ITC's final injury determination as further described below.

⁴ See Certain Tool Chests and Cabinets from the People's Republic of China: Preliminary Affirmative Determination of Sales at Less Than Fair Value, Postponement of Final Determination, and Extension of Provisional Measures, 82 FR 53456 (November 16, 2017) (China Prelim) and Certain Tool Chests and Cabinets from the Socialist Republic of Vietnam: Preliminary Affirmative Determination of Sales at Less Than Fair Value, Postponement of Final Determination and Extension of Provisional Measures, 82 FR 53452 (November 16, 2017) (Vietnam Prelim) (collectively, Preliminary Determinations).

Continuation of Suspension of Liquidation

In accordance with section 735(c)(1)(B) of the Act, we will instruct CBP to continue to suspend liquidation on entries of tool chests from China and Vietnam. These instructions suspending liquidation will remain in effect until further notice.

We will also instruct CBP to require cash deposits equal to the amount as indicated below. Accordingly, effective on the date of publication of the ITC's final affirmative injury determination, CBP will require, at the same time as importers would normally deposit estimated duties on this subject merchandise, a cash deposit equal to the cash deposit rates listed below.⁵ The respective rate for the China-wide entity and the Vietnam-wide entity applies to all exporters not specifically listed. For the purpose of determining cash deposit rates for China, the estimated weighted-average dumping margins for imports of subject merchandise from China have been adjusted, as appropriate, for estimated domestic subsidy pass-through rates calculated based on the final determination of the companion countervailing duty investigation of tool chests from China.⁶

⁵ See sections 736(a)(3) of the Act.

⁶ See China Final, 83 FR at 15367.

Provisional Measures

Section 733(d) of the Act states that instructions issued pursuant to an affirmative preliminary determination may not remain in effect for more than four months, except where exporters representing a significant proportion of exports of the subject merchandise request Commerce to extend that four-month period to no more than six months. At the request of exporters that account for a significant proportion of tool chests from China and Vietnam, respectively, Commerce extended the four-month period to six months in each case.⁷ In the underlying investigations, Commerce published the preliminary determinations on November 16, 2017. Therefore, the extended period, beginning on the date of publication of the Preliminary Determinations, ended on May 14, 2018. Furthermore, section 737(b) of the Act states that definitive duties are to begin on the date of publication of the ITC's final injury determination.

⁷ See China Prelim, 82 FR at 53458-59 and Vietnam Prelim, 82 FR at 53454.

Therefore, in accordance with section 733(d) of the Act and our practice,⁸ we will instruct CBP to terminate the suspension of liquidation and to liquidate, without regard to antidumping duties, unliquidated entries of tool chests from China and Vietnam entered, or withdrawn from warehouse, for consumption after May 14, 2018, the date the provisional measures expired, through the day preceding the date of publication of the ITC's final injury determination in the Federal Register. Suspension of liquidation will resume on the date of publication of the ITC's final determination in the Federal Register.

⁸ See, e.g., Certain Corrosion-Resistant Steel Products from India, Italy, the People's Republic of China, the Republic of Korea and Taiwan: Amended Final Affirmative Antidumping Determination for India and Taiwan, and Antidumping Duty Orders, 81 FR 48390 (July 25, 2016).

Estimated Weighted-Average Dumping Margins

For China, the weighted-average antidumping duty margin percentages and cash deposit percentages are as follows:

Exporter | Producer | Weighted- average dumping margin (percent) | Cash deposit (percent)
The Tongrun Single Entity | Changshu City Jiangrun Metal Product Co., Ltd | 97.11 | 93.94
The Tongrun Single Entity | The Tongrun Single Entity | 97.11 | 93.94
Changzhou Machan Steel Furniture Co., Ltd | Changzhou Machan Steel Furniture Co., Ltd | 97.11 | 93.94
Guangdong Hisense Home Appliances Co., Ltd | Guangdong Hisense Home Appliances Co., Ltd | 97.11 | 93.94
Hyxion Metal Industry | Hyxion Metal Industry | 97.11 | 93.94
Jin Rong Hua Le Metal Manufactures Co., Ltd | Jin Rong Hua Le Metal Manufactures Co., Ltd | 97.11 | 93.94
Ningbo Safewell International Holding Corp | Zhejiang Xiunan Leisure Products Co., Ltd | 97.11 | 93.94
Pinghu Chenda Storage Office Equipment Co., Ltd | Pinghu Chenda Storage Office Equipment Co., Ltd | 97.11 | 93.94
Pooke Technology Co., Ltd | Pooke Technology Co., Ltd | 97.11 | 93.94
Shanghai All-Fast International Trade Co., Ltd | Kunshan Trusteel Industry Co. Ltd | 97.11 | 93.94
Shanghai All-Fast International Trade Co., Ltd | Shanghai All-Hop Industry Co., Ltd | 97.11 | 93.94
Shanghai All-Fast International Trade Co., Ltd | Shanghai Hom-Steel Industry Co., Ltd | 97.11 | 93.94
Shanghai All-Hop Industry Co., Ltd | Shanghai All-Hop Industry Co., Ltd | 97.11 | 93.94
Trantex Product (Zhong Shan) Co., Ltd | Trantex Product (Zhong Shan) Co., Ltd | 97.11 | 93.94
China-Wide Entity |  | 244.29 | 241.12

For Vietnam, the weighted-average antidumping duty margin percentage is as follows:

Exporter | Weighted- average dumping margin (percent)
Vietnam-Wide Entity | 327.17

This notice constitutes the antidumping duty orders with respect to tool chests from China and Vietnam pursuant to section 736(a) of the Act. Interested parties can find a list of antidumping duty orders currently in effect at http://enforcement.trade.gov/stats/iastats1.html.

These orders are issued and published in accordance with section 736(a) of the Act and 19 CFR 351.211(b).

Dated: May 29, 2018.
Gary Taverman,
Deputy Assistant Secretary for Antidumping and Countervailing Duty Operations, performing the non-exclusive functions and duties of the Assistant Secretary for Enforcement and Compliance.

Appendix I

Scope of the Orders

The scope of these orders covers certain metal tool chests and tool cabinets, with drawers, (tool chests and cabinets), from the People's Republic of China (China) and the Socialist Republic of Vietnam (Vietnam). The scope covers all metal tool chests and cabinets, including top chests, intermediate chests, tool cabinets and side cabinets, storage units, mobile work benches, and work stations and that have the following physical characteristics:

(1) A body made of carbon, alloy, or stainless steel and/or other metals;

(2) two or more drawers for storage in each individual unit;

(3) a width (side to side) exceeding 15 inches for side cabinets and exceeding 21 inches for all other individual units but not exceeding 60 inches;

(4) a body depth (front to back) exceeding 10 inches but not exceeding 24 inches; and

(5) prepackaged for retail sale.

For purposes of this scope, the width parameter applies to each individual unit, i.e., each individual top chest, intermediate top chest, tool cabinet, side cabinet, storage unit, mobile work bench, and work station.

Prepackaged for retail sale means the units may, for example, be packaged in a cardboard box, other type of container or packaging, and may bear a Universal Product Code, along with photographs, pictures, images, features, artwork, and/or product specifications. Subject tool chests and cabinets are covered whether imported in assembled or unassembled form. Subject merchandise includes tool chests and cabinets produced in China or Vietnam but assembled, prepackaged for retail sale, or subject to other minor processing in a third country prior to importation into the United States. Similarly, it would include tool chests and cabinets produced in China or Vietnam that are assembled, prepackaged for retail sale, or subject to other minor processing after importation into the United States.

Subject tool chests and cabinets may also have doors and shelves in addition to drawers, may have handles (typically mounted on the sides), and may have a work surface on the top. Subject tool chests and cabinets may be uncoated (e.g., stainless steel), painted, powder coated, galvanized, or otherwise coated for corrosion protection or aesthetic appearance.

Subject tool chests and cabinets may be packaged as individual units or in sets. When packaged in sets, they typically include a cabinet with one or more chests that stack on top of the cabinet. Tool cabinets act as a base tool storage unit and typically have rollers, casters, or wheels to permit them to be moved more easily when loaded with tools. Work stations and mobile work benches are tool cabinets with a work surface on the top that may be made of rubber, plastic, metal, wood, or other materials.

Top chests are designed to be used with a tool cabinet to form a tool storage unit. The top chests may be mounted on top of the base tool cabinet or onto an intermediate chest. They are often packaged as a set with tool cabinets or intermediate chests, but may also be packaged separately. They may be packaged with mounting hardware (e.g., bolts) and instructions for assembling them onto the base tool cabinet or onto an intermediate tool chest which rests on the base tool cabinet. Smaller top chests typically have handles on the sides, while the larger top chests typically lack handles. Intermediate tool chests are designed to fit on top of the floor standing tool cabinet and to be used underneath the top tool chest. Although they may be packaged or used separately from the tool cabinet, intermediate chests are designed to be used in conjunction with tool cabinets. The intermediate chests typically do not have handles. The intermediate and top chests may have the capability of being bolted together.

Side cabinets are designed to be bolted or otherwise attached to the side of the base storage cabinet to expand the storage capacity of the base tool cabinet.

Subject tool chests and cabinets also may be packaged with a tool set included. Packaging a subject tool chest and cabinet with a tool set does not remove an otherwise covered subject tool chest and cabinet from the scope. When this occurs, the tools are not part of the subject merchandise.

All tool chests and cabinets that meet the above definition are included in the scope unless otherwise specifically excluded.

Excluded from the scope of these orders are tool boxes, chests, and cabinets with bodies made of plastic, carbon fiber, wood, or other non-metallic substances.

Also excluded from the scope of these orders are industrial grade steel tool chests and cabinets. The excluded industrial grade steel tool chests and cabinets are those:

(1) Having a body that is over 60 inches in width; or

(2) having each of the following physical characteristics:

(a) a body made of steel that is 0.047 inches or more in thickness;

(b) a body depth (front to back) exceeding 21 inches; and

(c) a unit weight that exceeds the maximum unit weight shown below for each width range:

Also excluded from the scope of these orders are service carts. The excluded service carts have all of the following characteristics:

(1) Casters, wheels, or other similar devices which allow the service cart to be rolled from place to place;

(2) an open top for storage, a flat top, or a flat lid on top of the unit that opens;

(3) a space or gap between the casters, wheels, or other similar devices, and the bottom of the enclosed storage space (e.g., drawers) of at least 10 inches; and

(4) a total unit height, including casters, of less than 48 inches.

Also excluded from the scope of these orders are non-mobile work benches. The excluded non-mobile work benches have all of the following characteristics:

(1) A solid top working surface;

(2) no drawers, one drawer, or two drawers in a side-by-side configuration; and

(3) the unit is supported by legs and has no solid front, side, or back panels enclosing the body of the unit.

Also excluded from the scope of these orders are metal filing cabinets that are configured to hold hanging file folders and are classified in the Harmonized Tariff Schedule of the United States (HTSUS) at subheading 9403.10.0020.

Merchandise subject to these orders is classified under HTSUS categories 9403.20.0021, 9403.20.0026, 9403.20.0030, 9403.20.0080, 9403.20.0090, and 7326.90.8688, but may also be classified under HTSUS category 7326.90.3500. While HTSUS subheadings are provided for convenience and Customs purposes, the written description of the scope of these orders is dispositive.

[FR Doc. 2018-11905 Filed 6-1-18; 8:45 am]

BILLING CODE 3510-DS-P